NATIONAL SCIENCE FOUNDATION

Notice of Permit Modification Received Under the Antarctic Conservation Act of 1978

AGENCY: National Science Foundation.

ACTION: Notice of Permit Modification Request.

SUMMARY: The National Science Foundation (NSF) is required to publish a notice of requests to modify permits issued to conduct activities regulated under the Antarctic Conservation Act of 1978. This is the required notice of a requested permit modification.

DATES: Interested parties are invited to submit written data, comments, or views with respect to this permit application by January 16, 2025. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, Office of Polar Programs, National Science Foundation, 2415 Eisenhower Avenue, Alexandria, VA 22314; 703-292-4479; or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2025-019) to Ari Friedlaender on December 1, 2024. The issued permit allows for Take, Harmful interference, and Import into USA associated with research activities on the ecology of cetaceans in the Antarctic Peninsula. The permitted activities include the use of Remotely Piloted Aircraft Systems (RPAS), deployment of tags to collect spatial and behavioral information, collection of biopsies, and conducting behavioral observations.

Now the holder proposes a modification to the permit to access Antarctic Specially Protected Area 113, Litchfield Island in order to collect aerial footage using RPAS as part of a collaborate effort with activities by Natasja van Gestel conducted under permit ACA 2023-007. Footage would be used for outreach purposes to highlight the importance of plant covered land in Antarctica. The collaboration proposes to allow RPAS filming under this permit (2025-019) as the holder is experienced in operating RPAS at this location without disturbance to wildlife. A total of three flights would be conducted over a three day period with flights above 40 meters AGL.

Location: ASPA 113, LITCHFIELD ISLAND.

Dates: January 12, 2024 to January 31, 2024.

Alina Pavao,
Administrative Assistant, Office of Polar Programs.

[FR Doc. 2024-29650 Filed 12-16-24; 8:45 am]

BILLING CODE 7555-01-P